OVERSEAS PRIVATE INVESTMENT CORPORATION

Sunshine Act Cancellation Notice—OPIC September 6, 2012 Public Hearing

OPIC's Sunshine Act notice of its Public Hearing in Conjunction with each Board meeting was published in the Federal Register (Volume 77, Number 159, Pages 49472 and 49473) on August 16, 2012. No requests were received to provide testimony or submit written statements for the record; therefore, OPIC's public hearing scheduled for 3 p.m., September 6, 2012 in conjunction with OPIC's September 13, 2012 Board of Directors meeting has been cancelled.

Contact Person For Information: Information on the hearing cancellation may be obtained from Connie M. Downs at (202) 336-8438, or via email at Connie.Downs@opic.gov.

Dated: August 30, 2012.
Connie M. Downs,
OPIC Corporate Secretary.

[FR Doc. 2012-21794 Filed 8-30-12; 11:15 am]

BILLING CODE 3210-01-P